DEPARTMENT OF COMMERCE

Foreign-Trade Zones Board

[Docket 39-2004]

Foreign-Trade Zone 163—Ponce, Puerto Rico Area; Application for Expansion/Time Extension

An application has been submitted to the Foreign-Trade Zones Board (the Board) by Codezol, C.D., grantee of FTZ 163, requesting authority to expand FTZ 163, in the Ponce, Puerto Rico area, adjacent to the Ponce Customs port of entry. The application was submitted pursuant to the provisions of the Foreign-Trade Zones Act, as amended (19 U.S.C. 81a-81u), and the regulations of the Board (15 CFR part 400). It was formally filed on August 25, 2004.

FTZ 163 was approved on October 18, 1989 (Board Order 443, 54 FR 46097, 11/01/89) and expanded on April 18, 2000 (Board Order 1091, 65 FR 24676, 4/27/00). The zone project currently consists of the following sites in the Ponce, Puerto Rico, area: Site 1 (106 acres)—within the Port of Ponce area, including a site (11 acres) located at 3309 Avenida Santiago de los Caballeros, Ponce; Site 2 (191 acres, 5 parcels)—Peerless Oil & Chemicals, Inc. Petroleum Terminal facilities located at Rt. 127, Km. 17.1, Penuelas; Site 3 (13 acres, 2 parcels)—Rio Piedras Distribution Center located within the central portion of the Quebrada Arena Industrial Park, and the Hato Rey Distribution Center located within the northeastern portion of the Tres Monjitas Industrial Park, San Juan; Site 4 (14 acres)—warehouse facility located at State Road No. 3, Km. 1401, Guayama (expires 10/1/04).

The applicant is requesting authority to expand the zone to include 2 additional sites (342 acres) in Ponce: Proposed Site 5 (256 acres, 34 parcels)—Mercedita Industrial Park located at the intersection of Route PR-9 and Las Americas Highway, Ponce; and, Proposed Site 6 (86 acres)—Coto Laurel Industrial Park located at the southwest corner of the intersection of Highways PR-56 and PR-52, Ponce. The sites are principally owned by the Port of Ponce, Vassallo Industries, Inc., and Desarrollos E Inversiones Del Sur, Inc. The applicant is also requesting permanent zone status for Site 4. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses below:

1. Submissions via Express/Package Delivery Services: Foreign-Trade Zones Board, U.S. Department of Commerce, Franklin Court Building-Suite 4100W, 1099 14th Street, NW., Washington, DC 20005; or

2. Submissions via U.S. Postal Service: Foreign-Trade Zones Board, U.S. Department of Commerce, FCB-4100W, 1401 Constitution Avenue, NW., Washington, DC 20230.

The closing period for their receipt is November 2, 2004. Rebuttal comments in response to material submitted during the foregoing period may be submitted during the subsequent 15-day period (to November 17, 2004).

A copy of the application will be available for public inspection at the Office of the Foreign-Trade Zones Board's Executive Secretary at address No. 1 listed above and Codezol, C.D., 3309 Avenida Santiago de los Caballeros, Ponce, Puerto Rico 00734.

Dated: August 25, 2004.
Dennis Puccinelli,
Executive Secretary.

[FR Doc. 04-20153 Filed 9-2-04; 8:45 am]

BILLING CODE 3510-DS-P